NATIONAL SCIENCE FOUNDATION

Conservation Act of 1978; Notice of Permit Modification

AGENCY: National Science Foundation.

SUMMARY: The Foundation modified a permit to conduct activities regulated under the Antarctic Conservation Act of 1978 (Pub. L. 95-541; Code of Federal Regulations Title 45, Part 670).

FOR FURTHER INFORMATION CONTACT: Nadene G. Kennedy, Permit Officer, Office of Polar Programs, Rm. 755, National Science Foundation, 4201 Wilson Boulevard, Arlington, VA 22230.

Description of Permit and Modification

1. On September 21, 1999, the National Science Foundation issued a permit (ACA #2000-001) to Dr. Steven D. Emslie after posting a notice in the August 17, 1999 Federal Register. Public comments were not received. A request to modify the permit was posted in the Federal Register on April 11, 2000. No public comments were received. The modification, issued by the Foundation on May 16, 2000, allows for entry into additional Antarctic Specially Protected Areas for the purpose of conducting surveys and excavations by surveying ice-free areas to locate evidence of a past or modern breeding penguin colony. Access to the Antarctic Specially Protected Areas will be on an opportunity basis only depending upon vessel cruise tracks and schedules.

Location

ASPA 104—Sabrina Island, Balleny Island

ASPA 105—Beaufort Island

ASPA 107—Dion Islands

ASPA 108—Green Island, Berthelot Islands

ASPA 112—Coppermine Peninsula, Robert Island

ASPA 115—Lagotellerie Island, Marguerite Bay

ASPA 116—New College Valley, Caughley Beach, Cape Bird

ASPA 117—Avian Island, Northwest Marguerite Bay

ASPA 126—Byers Peninsula, Livingston Island

ASPA 133—Harmony Point, Nelson Island

ASPA 134—Cierva Point, Danco Coast

ASPA 149—Cape Shirref, Livingston Island

ASPA 150—Ardley Island, King George Island

ASPA 154—Cape Evans, Ross Island

Dates

January 1, 2000 to December 31, 2005.

Nadene G. Kennedy,
Permit Officer.

[FR Doc. 00-17062 Filed 7-5-00; 8:45 am]

BILLING CODE 7555-01-M